DEPARTMENT OF STATE

[Delegation of Authority 291]

Delegation by the Secretary of State to the Under Secretary for Arms Control and International Security of Authority To Submit Certain Non-Proliferation Reports to the Congress

By virtue of the authority vested in me as Secretary of State, including Section 1 of the State Department Basic Authorities Act, as amended (22 U.S.C. 2651a), I hereby delegate to the Under Secretary for Arms Control and International Security the authority to approve submission of reports to the Congress pursuant to Section 1302(b) of the Foreign Relations Authorization Act, Fiscal Year 2003, Pub. L. 107-228.

Any act, executive order, regulation or procedure subject to, or affected by, this delegation shall be deemed to be such act, executive order, regulation or procedure as amended from time to time.

Notwithstanding this delegation of authority, the Secretary or the Deputy Secretary may at any time exercise any authority or function delegated by this delegation of authority.

This delegation of authority shall be published in the Federal Register.

Dated: April 7, 2006.
Condoleezza A. Rice,
Secretary of State, Department of State.

[FR Doc. E6-5946 Filed 4-19-06; 8:45 am]

BILLING CODE 4710-27-P